DEPARTMENT OF HOMELAND SECURITY

Transportation Security Administration

Maritime Vulnerability Self-Assessment Tool

AGENCY: Transportation Security Administration, DHS.

ACTION: Notice of removal of TSA's maritime vulnerability self-assessment tool.

SUMMARY: The Transportation Security Administration (TSA) announces that the TSA Maritime Self-Assessment Risk Module (TMSARM), developed to support the United States Coast Guard's (USCG) regulatory efforts promulgated pursuant to the Maritime Transportation Security Act (MTSA) of 2002, will no longer be available. Since the TMSARM became available, other tools for conducting vulnerability assessments became available and usage of the TMSARM has dropped off considerably.

FOR FURTHER INFORMATION CONTACT: Thomas Roman Reilly, Office of Security Capabilities, TSA-16, Transportation Security Administration, 601 South 12th Street, Arlington, VA 20598-6016; telephone (571) 227-2990; facsimile (571) 227-1933, email TSA-OSCCommunications@tsa.dhs.gov.

SUPPLEMENTARY INFORMATION: On December 5, 2003 (68 FR 68096), TSA published a notice in the Federal Register announcing the availability of the Maritime Self-Assessment Risk Module (TMSARM). The TMSARM was developed to support the USCG regulatory efforts promulgated pursuant to the Maritime Transportation Security Act (MTSA) of 2002 (Pub. L. 107-295, 116 Stat. 2064, Nov. 25, 2002). One of these MTSA requirements is that any facility or vessel that might be involved in a transportation security incident (TSI)¹ must conduct a vulnerability assessment and submit a security plan to the USCG. TSA, in coordination with other Federal agencies, developed TMSARM specifically to meet the security assessment requirements mandated by MTSA.

¹ The MTSA defines a TSI as “a security incident that results in a significant loss of life, environmental damage, transportation system disruption, or economic disruption in a particular area.”

Since the TMSARM was made available in 2003, hundreds of maritime owner/operators have used it to support their vulnerability assessments. However, usage has fallen off significantly, in part, due to the fact that other tools have become available, and TSA has determined that it is not necessary to continue to support it.

Issued in Arlington, Virginia, on May 10, 2012.
Kelly Hoggan,
Assistant Administrator, Office of Security Capabilities.

[FR Doc. 2012-11857 Filed 5-15-12; 8:45 am]

BILLING CODE 9110-05-P